DEPARTMENT OF ENERGY

Federal Energy Regulatory Commission

[Docket No. PR01-13-000]

DeSoto Pipeline Company, Inc.; Notice of Rate Election and Rate Petition

May 31, 2001.

Take notice that on May 1, 2001, DeSoto Pipeline Company, Inc. (DeSoto) filed pursuant to Section 284.123(b)(1) and 284.123(b)(2) of the Commission's regulations, a notice of rate election advising the Commission of DeSoto's intended use an existing state approved transportation rate as a fair and equitable proposed rate for interruptible transportation services being provided pursuant to Section 311 of the NGPA, together with a request for the Commission to establish a transportation rate for Section 311 service on a certain portion of its system, as well as certain additional compression and fuel retention percentages applicable at specific delivery points on the DeSoto system. DeSoto's mailing address is 1201 Diary Ashford, Suite 190, Houston, Texas 77079.

DeSoto states that it is an intrastate pipeline company within the meaning of Section 2(16) of the NGPA, 15 U.S.C. 3301(16). DeSoto will provide interruptible transportation service pursuant to Section 31(a)(2) of the NGPA through its facilities located in Texas. This petition is intended to establish a new system-wide maximum transportation rate for Section 311(a)(2) service.

Pursuant to Section 284.123(b)(2)(ii) of the Commission's regulations, if the Commission does not act within 150 days of the Petition's filing date, the rates proposed therein will be deemed to be fair and equitable and not in excess of an amount that interstate pipelines would be permitted to charge for similar services. The Commission may, prior to the expiration of the 150-day period, extend the time for action or institute a proceeding to afford parties an opportunity for written comments and for the oral presentation of views, data and arguments.

Any person desiring to participate in this rate proceeding must file a motion to intervene or protest with the Federal Energy Regulatory Commission, 888 First Street, NE., Washington, DC 20426, in accordance with Sections 385.211 and 385.214 of the Commission's Rules of Practice and Procedure. All motions must be filed with the Secretary of the Commission on or before June 14, 2001. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-14205 Filed 6-5-01; 8:45 am]

BILLING CODE 6717-01-M